DEPARTMENT OF AGRICULTURE

Grain Inspection, Packers and Stockyards Administration

Opportunity for Designation in the Lincoln, Nebraska, Area; Request for Comments on the Official Agency Servicing This Area

AGENCY: Grain Inspection, Packers and Stockyards Administration (GIPSA), USDA.

ACTION: Notice of opportunity for designation.

SUMMARY: The designation of the official agency listed below will end on March 31, 2018. We are asking persons or governmental agencies interested in providing official services in the areas presently served by this agency to submit an application for designation. In addition, we are asking for comments on the quality of services provided by the following designated agency: Lincoln Grain Inspection Service, Inc. (Lincoln).

DATES: GIPSA will consider applications and comments received by October 5, 2017.

ADDRESSES: Submit applications and comments concerning this notice using any of the following methods:

• Applying for Designation on the Internet: Use FGISonline (https://

fgis.gipsa.usda.gov/default_home_FGIS.aspx) and then click on the Delegations/Designations and Export Registrations (DDR) link. You will need to obtain an FGISonline customer number and USDA eAuthentication username and password prior to applying.

• Submit Comments Using the Internet: Go to Regulations.gov (http://www.regulations.gov). Instructions for submitting and reading comments are detailed on the site.

• Mail, Courier or Hand Delivery: Sharon Lathrop, Compliance Officer, USDA, GIPSA, FGIS, QACD, 10383 North Ambassador Drive, Kansas City, MO 64153.

• Fax: Sharon Lathrop, 816-872-1257.

• Email: FGIS.QACD@usda.gov.

Read Applications and Comments: All applications and comments will be available for public inspection at the office above during regular business hours (7 CFR 1.27(c)).

FOR FURTHER INFORMATION CONTACT: Sharon Lathrop, 816-891-0415 or FGIS.QACD@usda.gov.

SUPPLEMENTARY INFORMATION: Section 7(f) of the United States Grain Standards Act (USGSA) authorizes the Secretary to designate a qualified applicant to provide official services in a specified area after determining that the applicant is better able than any other applicant to provide such official services (7 U.S.C. 79(f)). Under section 7(g) of the USGSA, designations of official agencies are effective for no longer than five years, unless terminated by the Secretary, and may be renewed according to the criteria and procedures prescribed in section 7(f) of the USGSA.

Areas Open for Designation

Lincoln

Pursuant to Section 7(f)(2) of the United States Grain Standards Act, the following geographic area in the States of Iowa and Nebraska is assigned to this official agency.

In Iowa and Nebraska

Bounded on the north (in Nebraska) by the northern York, Seward, and Lancaster County lines; the northern Cass County line east to the Missouri River; the Missouri River south to U.S. Route 34; U.S. Route 34 east to Interstate 29; bounded on the east by Interstate 29 south to the Fremont County line; the northern Fremont and Page County lines; the eastern Page County line south to the Iowa-Missouri State line; the Iowa-Missouri State line west to the Missouri River; the Missouri River south-southeast to the Nebraska-Kansas State line; bounded on the south by the Nebraska-Kansas State line west to County Road 1 mile west of U.S. Route 81; bounded on the west by County Road 1 mile west of U.S. Route 81 north to State Highway 8; State Highway 8 east to U.S. Route 81; U.S. Route 81 north to the Thayer County line; the northern Thayer County line east; the western Saline County line; the southern and western York County lines.

The following grain elevators are not part of this geographic area assignment and are assigned to: Omaha Grain Inspection Service, Inc.: Goode Seed & Grain, McPaul, Fremont County, Iowa; and Haveman Grain, Murray, Cass County, Nebraska.

Opportunity for Designation

Interested persons or governmental agencies may apply for designation to provide official services in the geographic area specified above under the provisions of section 7(f) of the USGSA and 7 CFR 800.196. Designation in the specified geographic area in Iowa and Nebraska is for the period beginning April 1, 2018, to March 31, 2023. To apply for designation or to request more information, contact Sharon Lathrop at the address listed above.

Request for Comments

We are publishing this notice to provide interested persons the opportunity to comment on the quality of services provided by the Lincoln official agency. In the designation process, we are particularly interested in receiving comments citing reasons and pertinent data supporting or objecting to the designation of the applicant. Submit all comments to Sharon Lathrop at the above address or at http://www.regulations.gov.

We consider applications, comments, and other available information when determining which applicants will be designated.

Authority: 7 U.S.C. 71-87k.

Randall D. Jones,
Acting Administrator, Grain Inspection, Packers and Stockyards Administration.

[FR Doc. 2017-18633 Filed 9-1-17; 8:45 am]

BILLING CODE 3410-KD-P